DEPARTMENT OF HOMELAND SECURITY

Coast Guard

33 CFR Parts 140, 141, 142, 143, 144, 145, 146, and 147

[Docket Number USCG-1998-3868]

RIN 1625-AA18

Outer Continental Shelf Activities

AGENCY: Coast Guard, DHS.

ACTION: Proposed rule; withdrawal.

SUMMARY: The Coast Guard is withdrawing the proposed rule entitled “Outer Continental Shelf Activities” that we published on December 7, 1999. The Coast Guard is withdrawing this proposed rule due to the passage of time, advances in technology, and changes in industry practices that have rendered the proposed rule obsolete.

DATES: The proposed rule published December 7, 1999 (64 FR 68416) is withdrawn as of September 19, 2018.

ADDRESSES: To view documents mentioned in this withdrawal, go to http://www.regulations.gov, type “USCG-1998-3868” in the search box and click “Search” then click on “Open Docket Folder.”

FOR FURTHER INFORMATION CONTACT: For information about this document, call or email Mr. Charles Rawson, Commandant (CG-ENG), U.S. Coast Guard; telephone 202-372-1390, email Charles.E.Rawson@uscg.mil.

SUPPLEMENTARY INFORMATION:

I. Table of Abbreviations

FR Federal Register

NPRM Notice of proposed rulemaking

OCS Outer continental shelf

II. Background

The Coast Guard published a notice of proposed rulemaking (NPRM) in the Federal Register on December 7, 1999, (64 FR 68416), entitled “Outer Continental Shelf Activities.” In our NPRM, we proposed revisions of our Outer Continental Shelf (OCS) regulations that pertain to workplace safety and health on vessels and facilities engaged in the exploration for, or development or production of, minerals on the OCS. The Coast Guard initiated this rulemaking in response to the various advances that had changed the nature of the offshore industry since the last major revision of our OCS regulations in 1982. As detailed in the proposed regulatory text, this rulemaking would have reassessed all of our current OCS regulations in light of past experiences and new improvements in order to help make the OCS a safer work environment. The Coast Guard received comments from the public regarding the proposed rulemaking. These comments are available in the docket.

III. Withdrawal

In the nearly 20 years since the Coast Guard published the NPRM and the comment period closed, the offshore industry has continued to grow and evolve. Due to the passage of time, advances in technology, and changes in industry practice, we found that much of what we proposed in the NPRM is now obsolete and no longer applicable to the modern OCS work environment. Consequently, the NPRM is no longer suitable as a basis for further rulemaking action. Accordingly, the Coast Guard is withdrawing the “Outer Continental Shelf Activities” proposed rule announced in an NPRM published December 7, 1999 (64 FR 68416).

This document is issued under the authority of 5 U.S.C. 552(a), and 43 U.S.C. 1333(d) and 1348(c).

Dated: September 14, 2018.
J.P. Nadeau,
Rear Admiral, U.S. Coast Guard, Assistant Commandant for Prevention Policy.

[FR Doc. 2018-20378 Filed 9-18-18; 8:45 am]

BILLING CODE 9110-04-P